INTERNATIONAL TRADE COMMISSION

[Investigation Nos. 701-TA-779 and 731-TA-1765-1766 (Preliminary)]

Chromium Trioxide From India and Turkey; Determinations

On the basis of the record ¹ developed in the subject investigations, the United States International Trade Commission (“Commission”) determines, pursuant to the Tariff Act of 1930 (“the Act”), that there is a reasonable indication that an industry in the United States is materially injured by reason of imports of chromium trioxide from India and Turkey, provided for in subheading 2819.10.00 of the Harmonized Tariff Schedule of the United States, that are alleged to be sold in the United States at less than fair value (“LTFV”) and imports of the subject merchandise from India that are alleged to be subsidized by the government of India.²

¹ The record is defined in § 207.2(f) of the Commission's Rules of Practice and Procedure (19 CFR 207.2(f)).

² Unpublished Federal Register Notices, Department of Commerce, EDIS Document ID 867704, retrieved December 31, 2025.

Background

On September 29, 2025, American Chrome & Chemicals, Inc., Canonsburg, Pennsylvania, filed petitions with the Commission and Commerce, alleging that an industry in the United States is materially injured or threatened with material injury by reason of subsidized imports of chromium trioxide from India and LTFV imports of chromium trioxide from India and Turkey. Accordingly, effective September 29, 2025, the Commission instituted countervailing duty investigation No. 701-TA-779 and antidumping duty investigation Nos. 731-TA-1765-1766 (Preliminary).

Notice of the institution of the Commission's investigations and of a public conference to be held in connection therewith was given by posting copies of the notice in the Office of the Secretary, U.S. International Trade Commission, Washington, DC, and by publishing the notice in the Federal Register of October 2, 2025 (90 FR 47820).³ The Commission conducted its conference on December 4, 2025. All persons who requested the opportunity were permitted to participate.

³ Due to the lapse in appropriations and ensuing cessation of Commission operations, the Commission tolled its schedule for this proceeding. The schedule was revised in subsequent notices published in the Federal Register on November 11 (90 FR 52096), December 18 (90 FR 59203), and December 30 (90 FR 61167).

The Commission made these determinations pursuant to §§ 703(a) and 733(a) of the Act (19 U.S.C. 1671b(a) and 1673b(a)). It completed and filed its determinations in these investigations on January 2, 2026. The views of the Commission are contained in USITC Publication 5968 (January 2026), entitled Chromium Trioxide from India and Turkey: Investigation Nos. 701-TA-779 and 731-TA-1765-1766 (Preliminary).

By order of the Commission.
Issued: January 2, 2026.
Lisa Barton,
Secretary to the Commission.

[FR Doc. 2026-00378 Filed 1-9-26; 8:45 am]

BILLING CODE 7020-02-P